DEPARTMENT OF COMMERCE

International Trade Administration

Overseas Trade Mission

AGENCY: International Trade Administration, Department of Commerce.

ACTION: Notice.

SUMMARY: The Department of Commerce invites U.S. companies to participate in the below listed overseas trade mission. For a more complete description of the trade mission, obtain a copy of the mission statement from the Project Officer indicated for the mission below. Recruitment and selection of private sector participants for the mission will be conducted according to the Statement of Policy Governing Department of Commerce Overseas Trade Missions dated March 3, 1997.

Assistant Secretarial Business Development Mission: Italy and Spain

Rome and Milan, Barcelona and Madrid

July 6-15, 2002

Assistant Secretary of Commerce and Director General of the U.S. and Foreign Commercial Service Maria Cino will lead a senior-level business development trade mission focusing on women or minority-owned and/or -man- aged businesses to Rome and Milan, Italy, and Barcelona and Madrid, Spain. This Business Development Mission is being organized to coincide with the Global Summit of Women, to be held July 11-13, in Barcelona, Spain. The Global Summit of Women will bring together many high-level female private and public sector participants from around the world. While the trade mission and summit focus on women or minority-owned and/or managed companies, participation in the mission is not limited to such businesses and all interested U.S. companies are encouraged to apply to this four-city, two country trade mission. Recruitment closes on May 1, 2002.

FOR FURTHER INFORMATION CONTACT: Ms. Selina Marquez, U.S. Department of Commerce. Telephone 202-482-4799, e-mail Trade.Missions@mail.doc.gov.

Dated: March 7, 2002.
Thomas H. Nisbet,
Director, Export Promotion Coordination, Office of Planning, Coordination and Management.

[FR Doc. 02-5946 Filed 3-12-02; 8:45 am]

BILLING CODE 3510-DR-P